DEPARTMENT OF DEFENSE

[OMB Control Number 0704-0229]

Information Collection Requirement; Defense Federal Acquisition Regulation Supplement; Foreign Acquisition

AGENCY: Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through April 30, 2001. DoD proposes that OMB extend its approval for use through April 30, 2004.

DATES: DoD will consider all comments received by December 26, 2000.

ADDRESSES: Interested parties should submit written comments and recommendations on the proposed information collection to: Defense Acquisition Regulations Council, Attn: Ms. Amy Williams, OUSD(AT&L)DP(DAR), IMD 3C132, 3062 Defense Pentagon, Washington, DC 20301-3062. Telefax (703) 602-0350.

E-mail comments submitted via the Internet should be addressed to: dfars@acq.osd.mil.

Please cite OMB Control Number 0704-0229 in all correspondence related to this issue. E-mail comments should cite OMB Control Number 0704-0229 in the subject line.

FOR FURTHER INFORMATION CONTACT: Ms. Amy Williams, (703) 602-0288. The information collection requirements addressed in this notice are available electronically via the Internet at: http://www.acq.osd.mil/dp/dars/dfars.html. Paper copies are available from Ms. Amy Williams, OUSD(AT&L)DP(DAR), IMD 3C132, 3062 Defense Pentagon, Washington, DC 20301-3062.

SUPPLEMENTARY INFORMATION: Title, Form, and OMB Number: Foreign Acquisition—Defense Federal Acquisition Regulation Supplement Part 225 and Related Clauses at 252.225; DD Form 2139; OMB Control Number 0704-0229.

Needs and Uses: DoD needs this information to ensure compliance with restrictions on the acquisition of foreign products imposed by statute or policy to protect the industrial base; to ensure compliance with U.S. trade agreements and memoranda of understanding that promote reciprocal trade with U.S. allies; and to prepare reports for submission to the Department of Commerce on the Balance of Payments Program.

Affected Public: Businesses or other for-profit and not-for-profit institutions.

Annual Burden Hours: 74,173.

Number of Respondents: 31,347.

Responses Per Respondent: Approximately 7.

Number of Responses: 223,942.

Average Burden Per Response: .33 hours.

Frequency: On occasion.

Summary of Information Collection

DFARS 252.225-7000, Buy American Act—Balance of Payments Program Certificate, as prescribed in 225.1101(1), requires an offeror to list the item number and country of origin of any qualifying country or nonqualifying country end product that it intends to furnish under the contract.

DFARS 252.225-7003, Information for Duty-Free Entry Evaluation, as prescribed in 225.1101(4), requires an offeror to indicate whether or not it intends to furnish foreign supplies under the contract, other than those that will be accorded duty-free entry under another clause of the contract. If the offeror intends to furnish such foreign supplies, the offeror must indicate whether or not the supplies are in the United States and whether or not the duty on the supplies has been paid. If the duty has not been paid, the offeror must specify the amount included in its offer to cover the duty.

DFARS 252.225-7005, Identification of Expenditures in the United States, as prescribed in 225.1103(1), requires the contractor to identify, on each request for payment under a contract involving a foreign contractor or performance outside the United States, the part of the requested payment representing estimated expenditures in the United States.

DFARS 252.225-7006, Buy American Act—Trade Agreements—Balance of Payments Program Certificate, as prescribed in 225.1101(5), requires an offeror to list the item number and country of origin of any U.S. made (but not domestic), qualifying country, designated country, Caribbean Basin country, NAFTA country, or other nondesignated country end product that it intends to furnish under the contract.

DFARS 252.225-7009, Duty-Free Entry—Qualifying Country Supplies (End Products and Components), DFARS 252.225-7010, Duty-Free Entry—Additional Provisions, and DFARS 252.225-7037, Duty-Free Entry—Eligible End Products, as prescribed in 225.1101 (8), (9), and (14), respectively, require the contractor to notify the administrative contracting officer upon award of a subcontract for products that are eligible for duty-free entry, and to provide information in shipping documents and customs forms regarding products that are eligible for duty-free entry.

DFARS 252.225-7016, Restriction on Acquisition of Ball and Roller Bearings, as prescribed in 225.7019-4, requires the contractor to retain records showing compliance with the requirement that ball and roller bearings delivered under the contract must be wholly manufactured in the United States or Canada. The contractor must retain the records until 3 years after final payment and must make the records available upon request of the contracting officer. The contractor may request a waiver of the requirement in accordance with DFARS 225.7019-3, which also requires the contractor to submit a written plan for transitioning to domestically manufactured bearings, if the waiver is requested under a multiyear contract or a contract exceeding 12 months.

DFARS 252.225-7018, Notice of Prohibition of Certain Contracts with Foreign Entities for the Conduct of Ballistic Missile Defense RDT&E, as prescribed in 225.7011-5, gives notice of the statutory prohibition on award of a contract to a foreign government or firm, if the contract provides for the conduct of research, development, test, or evaluation in connection with the Ballistic Missile Defense Program. The provision requires an offeror to indicate whether it is or is not a U.S. firm.

DFARS 252.225-7020, Trade Agreements Certificate, as prescribed in 225.1101(10), requires an offeror to list the item number and country of origin of any nondesignated country end product that it intends to furnish under the contract.

DFARS 252.225-7025, Restriction on Acquisition of Forgings, as prescribed in 225.7102-4, requires the contractor to retain records showing compliance with the requirement that end items and their components delivered under the contract must contain domestic forging items. The contractor must retain the records until 3 years after final payment and must make the records available upon request of the contracting officer. The contractor may request a waiver of the requirement in accordance with DFARS 225.7102-3.

DFARS 252.225-7026, Reporting of Contract Performance Outside the United States, as prescribed in 225.7203, requires the contractor to submit a report when any part of the contract that exceeds a specified dollar threshold will be performed outside the United States. The specified threshold is $500,000 for contracts that exceed $10 million, or the simplified acquisition threshold ($100,000) for contracts that exceed $500,000. The contractor may submit the report on DD Form 2139, Report of Contract Performance Outside the United States, or may use a computer-generated report that contains all information required by DD Form 2139.

DFARS 252.225-7032, Waiver of United Kingdom Levies, as prescribed in 225.873-3, requires an offeror to provide information to the contracting officer regarding any United Kingdom levies included in the offered price, and requires the contractor to provide information to the contracting officer regarding any United Kingdom levies to be included in a subcontract that exceeds $1 million, before award of the subcontract.

DFARS 252.225-7035, Buy American Act—North American Free Trade Agreement Implementation Act—Balance of Payments Program Certificate, as prescribed in 225.1101(12), requires an offeror to list any qualifying country, NAFTA country, or other foreign end product that it intends to furnish under the contract.

Michele P. Peterson,
Executive Editor, Defense Acquisition Regulations Council.

[FR Doc. 00-27247 Filed 10-24-00; 8:45 am]

BILLING CODE 5000-04-M